DEPARTMENT OF HEALTH AND HUMAN SERVICES

Centers for Disease Control and Prevention

[60 Day-14-0770]

Agency Information Collection Activities; Proposals, Submissions, and Approvals; Withdrawal

AGENCY: Centers for Disease Control and Prevention (CDC) Center for HIV, Hepatitis, STD, and TB Prevention (NCHHSTP), Department of Health and Human Services (HHS).

ACTION: Notice withdrawal.

SUMMARY: The Centers for Disease Control and Prevention requests withdrawal from publication the 60-Day Federal Register Notice (FRN) 14 0770 concerning the National HIV Behavioral Surveillance System (NHBS) (FR Doc. 2013-28281), which was submitted on November 21, 2013 for public inspection in the Federal Register.

The purpose behind this notice withdrawal request is that an original 60-day FRN previously published on November 26, 2013 (Document Number—2013-28280). A duplicate 60-day FRN was inadvertently published on November 26, 2013. Please disregard the duplicate FRN.

DATES: The duplicate FRN published on [11/26/13] at [Vol. 78, No. 228 Page 70561-70562] is withdrawn as of [11/26/13].

FOR FURTHER INFORMATION CONTACT: (404) 639-7570 or send comments to CDC LeRoy Richardson, 1600 Clifton Road, MS D-74, Atlanta, GA 30333 or send an email to omb@cdc.gov.

SUPPLEMENTARY INFORMATION: N/A

LeRoy A. Richardson,
Chief, Information Collection Review Office, Office of Scientific Integrity, Office of the Associate Director for Science, Office of the Director, Centers for Disease Control and Prevention.

[FR Doc. 2013-28767 Filed 11-29-13; 8:45 am]

BILLING CODE 4163-18-P